DEPARTMENT OF ENERGY

Federal Energy Regulatory Commission

[Docket No. RP04-47-000]

High Island Offshore System, L.L.C.; Notice of Tariff Filing

November 5, 2003.

Take notice that on November 3, 2003, High Island Offshore System, L.L.C. (HIOS), tendered for filing as part of its FERC Gas Tariff, Third Revised Volume No. 1, the tariff sheets listed in appendix A to the filing, with an effective date of January 1, 2004.

HIOS states that the purpose of its filing is to establish and implement a Gas Liquids Bank (NGL Bank) as a part of its tariff. HIOS further proposes that participation in the NGL Bank would be a condition of receiving service on HIOS. HIOS also states that the purpose of the NGL Bank is: (1) To mitigate inequities in gas processing economics that may occur on HIOS as a result of its commingling of gas streams that contain different liquefiable hydrocarbon compositions; and (2) to provide a new service to meet the needs of producers developing gas supply sources rich in liquefiable hydrocarbons.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00198 Filed 11-12-03; 8:45 am]

BILLING CODE 6717-01-P